DEPARTMENT OF ENERGY

Federal Energy Regulatory Commission

[Docket No. AD10-12-000]

Improving Market and Planning Efficiency Through Improved Software; Notice of Agenda and Procedures for Staff Technical Conference

June 10, 2010.

This notice establishes the agenda and procedures for the staff technical conference to be held on June 23 and June 24, 2010 to discuss issues related to enhanced optimal power flow models and software. The technical conference will be held from 9 a.m. to 5 p.m. e.d.t. on June 23, 2010, and from 9 a.m. to 3:30 p.m. e.d.t. on June 24, 2010 at the Federal Energy Regulatory Commission, 888 First Street, NE., Washington, DC 20426, in the Commission Meeting Room. All interested persons are invited to attend, and registration is not required.

The agenda for this conference is attached. The presentations will be technical in nature, and the session times shown on the agenda include approximately 10 minutes for questions or discussion after each presentation. Equipment will be available for computer presentations. Presenters who wish to include comments, presentations, or handouts in the record for this proceeding should file their comments with the Commission. Comments may either be filed on paper or electronically via the eFiling link on the Commission's Web site at http://www.ferc.gov.

A free webcast of this event is available through http://www.ferc.gov. Anyone with Internet access who desires to view this event can do so by navigating to http://www.ferc.gov's Calendar of Events and locating this event in the calendar. The event will contain a link to its webcast. The Capitol Connection provides technical support for the free webcasts. It also offers access to this event via television in the DC area and via phone bridge for a fee. If you have any questions, visit http://www.CapitolConnection.org or call (703) 993-3100.

FERC conferences are accessible under section 508 of the Rehabilitation Act of 1973. For accessibility accommodations please send an e-mail to accessibility@ferc.gov or call toll free 1-866-208-3372 (voice) or 202-208-8659 (TTY), or send a fax to 202-208-2106 with the required accommodations.

For further information about this conference, please contact:

Tom Dautel (Technical Information), Office of Energy Policy and Innovation, (202) 502-6196, Thomas.Dautel@ferc.gov.

Eric Krall (Technical Information), Office of Energy Policy and Innovation, (202) 502-6214, Eric.Krall@ferc.gov.

Kimberly D. Bose,
Secretary.

Agenda for AD10-12 Staff Technical Conference on Enhanced Power Flow Models

Federal Energy Regulatory Commission

Wednesday, June 23, 2010

9 a.m. Welcome and introduction,

Richard O'Neill, FERC.

9:20 a.m. Session A.

Rick Gonzales, New York ISO, Voltage and Reactive Management.

Slava Maslennikov, ISO New England, Enhancement of Dispatch by Utilization of Adaptive Transmission Rates.

10:30 a.m. Break.

10:45 a.m. Session B.

Andy Ott, PJM, Development of Enhanced Generation/Demand Response Control Algorithm.

Vladimir Brandwajn and Show Chang, ABB, Optimal Power Flow in Energy Markets: Current Practices and Future Directions.

Noon Lunch.

1:15 p.m. Session C.

David Sun, Alstom, Challenges with Practical Usage of Large-Scale Optimal Power Flow.

Herminio Pinto, Nexant, AC Optimal Power Flow for Day-Ahead Reactive Planning.

2:25 p.m. Break.

2:40 p.m. Session D.

Marija Ilic, Carnegie Mellon University and NETSS, Inc., Jeffrey Lang, Massachusetts Institute of Technology, NETSSWorks Software: An Extended AC Optimal Power Flow (AC XOPF) for Managing Available System Resources.

3:40 p.m. Break.

3:50 p.m. Session E.

Malcolm Metcalfe, Sempa Power Systems, Low-Cost Fast Regulation with Load-Based Regulation Services Network.

Franz Franchetti, Carnegie Mellon University, Trends in High-Performance Computing for Power Grid Applications.

5 p.m. Day 1 Conclusion,

Richard O'Neill, FERC.

Thursday, June 24, 2010

9 a.m. Day 2 Welcome,

Richard O'Neill, FERC.

9:20 a.m. Session F.

Marija Ilic, Carnegie Mellon University and NETSS, Inc., AC Optimal Power Flow and Smart Grids.

Cong Liu, Argonne National Laboratory, Large-Scale Power Grid Simulation.

10:30 a.m. Break.

10:45 a.m. Session G.

Sven Leyffer, Argonne National Laboratory, AC Networks and Mixed-Discrete Global Optimization.

Srinivas Musunuri, AREVA T&D, Enhanced LP-Based Optimal Power Flow for Transmission Operations.

Noon Lunch.

1:15 p.m. Session H.

Ray Zimmerman, Cornell University, SuperOPF Framework.

Sandy Aivaliotis, The Valley Group, Dynamic Line Ratings.

2:25 p.m. Break.

2:40 p.m. Session I.

Herminio Pinto, Nexant, Security-Constrained Economic Dispatch with Post-Contingency Corrective Actions.

3:15 p.m. Day 2 Conclusion,

Richard O'Neill, FERC.

[FR Doc. 2010-14720 Filed 6-17-10; 8:45 am]

BILLING CODE 6717-01-P